DEPARTMENT OF THE TREASURY

Agency Information Collection Activities; Submission for OMB Review; Comment Request; Quarterly Dealer Agenda Survey

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before November 8, 2019 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Spencer W. Clark by emailing PRA@treasury.gov, calling (202) 927-5331, or viewing the entire information collection request at www.reginfo.gov.

SUPPLEMENTARY INFORMATION:

Departmental Offices (DO)

Title: Quarterly Dealer Agenda Survey.

OMB Control Number: 1505-0261.

Type of Review: Reinstatement of a previously approved collection.

Description: In order to finance the government's borrowing needs at the lowest cost over time, Treasury closely monitors economic conditions, market activity, and, if necessary, responds with appropriate changes in debt issuance based on analysis and consultation with market participants. Changes in debt management policy are generally developed through the quarterly refunding process near the middle of each calendar quarter. Treasury begins this process by soliciting advice and views from the private sector through questions to primary dealers in the Primary Dealer Meeting Agenda (Agenda). This survey is sent to all primary dealers, of which there are currently 24 financial institutions. As fiscal agent, the Federal Reserve Bank of New York sends and receives the survey, via email, to the primary dealers on Treasury's behalf.

The information is used to inform ODM's decision to set the securities' issuance sizes for the upcoming quarter. In effect, the information provides a market view of borrowing needs for the U.S. Government. In addition, aggregate statistics are made public through Treasury's Quarterly Refunding materials.

Form: None.

Affected Public: Businesses or other for-profits.

Estimated Number of Respondents: 24.

Frequency of Response: Quarterly.

Estimated Total Number of Annual Responses: 96.

Estimated Time per Response: 2 hours.

Estimated Total Annual Burden Hours: 192 hours.

Authority: 44 U.S.C. 3501 et seq.

Dated: October 4, 2019.
Spencer W. Clark,
Treasury PRA Clearance Officer.

[FR Doc. 2019-22105 Filed 10-8-19; 8:45 am]

BILLING CODE 4810-25-P